DEPARTMENT OF LABOR

Employment and Training Administration

[TA-W-62,043]

Synergis Technologies Group Corporation, Dielink International Development; Including On-Site Leased Workers from Forge Industrial Staffing, All Performance Staffing and Aerotek Grand Rapids, Michigan; Amended Certification Regarding Eligibility to Apply for Worker Adjustment Assistance and Alternative Trade Adjustment Assistance

In accordance with section 223 of the Trade Act of 1974 (19 U.S.C. 2273), and section 246 of the Trade Act of 1974 (26 U.S.C. 2813), as amended, the Department of Labor issued a Certification of Eligibility to Apply for Worker Adjustment Assistance and Alternative Trade Adjustment Assistance on September 17, 2007, applicable to workers of Synergis Technologies Group Corporation, including on-site leased workers from Forge Industrial Staffing, and All Performance Staffing, Grand Rapids, Michigan. The notice was published in the Federal Register on October 3, 2007 (72 FR 56385).

At the request of petitioners, a company official and a state agency representative, the Department reviewed the certification for workers of the subject firm. The workers were engaged in the production of metal stamping dies.

New information provided by the company shows that the worker group includes those employees of Synergis Technologies Group Corporation divisions known as Dielink International and Dievelopment. These two divisions are located at different street addresses in Grand Rapids, but are engaged in employment related to the production of metal stamping dies. Furthermore, the Unemployment Insurance (UI) wage account for these divisions is reported under Synergis Technologies Group Corporation. The company official also confirms that the worker group includes on-site leased workers from Aerotech. The Department has determined that the Aerotech workers were sufficiently under the control of Synergis Technologies Group Corporations.

Based on these findings, the Department is amending this certification to include workers of Dielink International, Dievelopment, and workers from Aerotek working on-site at the Grand Rapids, Michigan locations of the subject firm.

The intent of the Department's certification is to include all workers employed at Synergis Technologies Group Corporation, Grand Rapids, Michigan who were adversely-impacted by a shift in production of metal stamping dies to China.

The amended notice applicable to TA-W-62,043 is hereby issued as follows:

“All workers of Synergis Technologies Group Corporation, Dietech International and Dievelopment, Grand Rapids, Michigan, including on-site leased workers from Forge Industrial Staffing, All Performance Staffing and Aerotek, who became totally or partially separated from employment on or after August 24, 2006, through September 17, 2009, are eligible to apply for adjustment assistance under Section 223 of the Trade Act of 1974, and are also eligible to apply for alternative trade adjustment assistance under Section 246 of the Trade Act of 1974.”

Signed at Washington, DC, this 14th day of January 2008.
Linda G. Poole,
Certifying Officer, Division of Trade Adjustment Assistance.

[FR Doc. E8-1283 Filed 1-24-08; 8:45 am]

BILLING CODE 4510-FN-P